CONSUMER PRODUCT SAFETY COMMISSION

16 CFR Part 1240

[CPSC Docket No. CPSC-2012-0050]

Magnet Sets; Notice of Opportunity for Oral Presentation of Comments

AGENCY: Consumer Product Safety Commission.

ACTION: Notice of opportunity for oral presentation of comments.

SUMMARY: The Consumer Product Safety Commission (CPSC, Commission) announces that there will be an opportunity for interested persons to present oral comments on the notice of proposed rulemaking (NPR) the Commission issued proposing a standard to reduce the risk of injury associated with children ingesting magnets that are part of a magnet set. Any oral comments will be part of the rulemaking record.

DATES: The meeting will begin at 10 a.m., October 22, 2013, in the Hearing Room, 4th Floor of the Bethesda Towers Building, 4330 East West Highway, Bethesda, MD 20814. Requests to make oral presentations and the written text of any oral presentations must be received by the Office of the Secretary not later than 5 p.m. Eastern Standard Time (EST) on October 15, 2013.

ADDRESSES: The meeting will be in the Hearing Room, 4th Floor of the Bethesda Towers Building, 4330 East West Highway, Bethesda, MD 20814. Requests to make oral presentations, and texts of oral presentations, should be captioned: “Magnet Sets NPR; Oral Presentation” and submitted by email to cpsc-os@cpsc.gov, or mailed or delivered to the Office of the Secretary, Consumer Product Safety Commission, 4330 East-West Highway, Bethesda, MD 20814, not later than 5 p.m. EST on October 15, 2013.

FOR FURTHER INFORMATION CONTACT: For information about the purpose or subject matter of this meeting, contact Jonathan D. Midgett, Ph.D., Project Manager, Office of Hazard Identification and Reduction, Consumer Product Safety Commission, 5 Research Place, Rockville, MD 20850; telephone (301) 987-2561; jmidgett@cpsc.gov. For information about the procedure to make an oral presentation, contact Rockelle Hammond, Office of the Secretary, Consumer Product Safety Commission, 4330 East-West Highway, Bethesda, MD 20814; telephone (301) 504-7923.

SUPPLEMENTARY INFORMATION:

A. Background

On September 4, 2012, the Commission issued an NPR to address the risk of injury posed by magnet sets. 77 FR 53781. The NPR defined “magnet set” as “any aggregation of separable, permanent, magnetic objects that is a consumer product intended or marketed by the manufacturer primarily as a manipulative or construction desk toy for general entertainment, such as puzzle working, sculpture building, mental stimulation, or stress relief.” As explained in the NPR, magnet sets can cause serious, life-threatening injuries. The NPR and staff's briefing package are available on the Commission's Web site at: http://www.cpsc.gov/PageFiles/128934/magnetstd.pdf. Under the proposed rule, if a magnet that is part of a magnet set fits within the CPSC's small parts cylinder, the magnet would be required to have a flux index of 50 or less, or the magnet set would violate the standard. The flux index would be determined by the method described in ASTM F963-11, Standard Consumer Safety Specification for Toy Safety. These requirements would be issued under the Consumer Product Safety Act (CPSA).

B. The Public Meeting

The CPSA requires that the Commission provide an opportunity for the “oral presentation of data, views, or arguments,” in addition to written comments, when the Commission develops a consumer product safety standard. 15 U.S.C. 2058(d)(2). Thus, the Commission is providing this forum for oral presentations concerning the proposed magnet set standard. See the information under the headings DATES and ADDRESSES at the beginning of this notice for information on making requests to give oral presentations at the meeting.

Participants should limit their presentations to approximately 10 minutes, exclusive of any periods of questioning by the Commissioners or CPSC staff. To prevent duplicative presentations, groups will be directed to designate a spokesperson. The Commission reserves the right to limit the time further for any presentation and impose restrictions to avoid excessive duplication of presentations.

Dated: September 19, 2013.
Todd A. Stevenson,
Secretary, U.S. Consumer Product Safety Commission.

[FR Doc. 2013-23138 Filed 9-23-13; 8:45 am]

BILLING CODE 6355-01-P